FEDERAL ACCOUNTING STANDARDS ADVISORY BOARD

Notice of Meeting for February 2002

Board Action: Pursuant to the Federal Advisory Committee Act (Pub. L. No. 92-463), as amended, and the FASAB Rules of Procedure, as amended in October, 1999, notice is hereby given that the Federal Accounting Standards Advisory Board (FASAB) will meet on Wednesday, February 27 and Thursday, February 28, 2002, in room 7C13 of the GAO Building.

The purpose of the meeting is to discuss issues related to:

—National Defense PP&E,

—Consolidated Financial Reporting,

—Trust Fund Disclosures,

—Stewardship Reporting, and

—Technical Agenda

A more detailed agenda can be obtained from the FASAB Web site (http://www.fasab.gov/ one week prior to each meeting.

Following the February meeting, the schedule for the next five meetings of the Board is as follows:

—Tuesday and Wednesday, April 23 and 24, 2002;

—Tuesday and Wednesday, June 18 and 19, 2002;

—Wednesday and Thursday, August 7 and 8, 2002;

—Wednesday and Thursday, October 9 and 10, 2002;

Thursday and Friday, December 11 and 12, 2002.

The purpose of these meetings will be to discuss issues related to:

—Stewardship Reporting;

—National Defense Property, Plant & Equipment;

—Accounting and Auditing Policy Committee issues; and

—Any other topics as needed.

A Steering Committee meeting of the Board's Principal Board members will be held in conjunction with each of the Board meetings. A more detailed agenda for each Board meeting can be seen on the FASAB Web site http://www.fasab.gov/ one week prior to each meeting. Meetings will be held in room 7C13 of the GAO Building.

Any interested person may attend the meetings as an observer. Board discussion and reviews are open to the public. GAO Building security requires advance notice of your attendance. For the February meeting, please notify FASAB by February 26 of your planned attendance by calling 202-512-7350, and for the subsequent meetings one day prior to the respective meeting.

FOR FURTHER INFORMATION CONTACT: Wendy Comes, Executive Director, 441 G St., NW., Mailstop 6K17V, Washington, DC 20548, or call (202) 512-7350.

Authority: Federal Advisory Committee Act. Pub. L. No. 92-463.

Dated: January 28, 2002.
Wendy M. Comes,
Executive Director.

[FR Doc. 02-2527 Filed 1-31-02; 8:45 am]

BILLING CODE 1610-01-M